DEPARTMENT OF LABOR

Occupational Safety and Health Administration

Susan Harwood Training Grant Program, FY 2014

AGENCY: Occupational Safety and Health Administration (OSHA), Labor.

ACTION: Notice of availability of funds and solicitations for grant applications (SGA) for Targeted Topic Training and Capacity Building grants.

Funding Opportunity No.: SHTG-FY-14-01 (Targeted Topic Training grants).

Funding Opportunity No.: SHTG-FY-14-02 (Capacity Building grants).

Catalog of Federal Domestic Assistance No.: 17.502.

SUMMARY: This notice announces availability of approximately $3.5 million for Susan Harwood Training Program Targeted Topic Training grants in two categories: Targeted Topic Training and Targeted Topic Training and Educational Materials Development. This notice also announces availability of approximately $3.5 million for Susan Harwood Training Program Capacity Building grants in two categories: Capacity Building Developmental and Capacity Building Pilot.

DATES: Grant applications for Capacity Building grants must be received electronically by the Grants.gov system no later than 11:59 p.m., ET, on Thursday, June 26, 2014. Grant applications for Targeted Topic Training grants must be received electronically by the Grants.gov system no later than 11:59 p.m., ET, on Monday, June 30, 2014.

ADDRESSES: The complete Susan Harwood Training Grant Program solicitation for grant applications and all information needed to apply for these funding opportunities are available at the Grants.gov Web site, http://www.grants.gov.

FOR FURTHER INFORMATION CONTACT: Questions regarding the solicitations for grant applications should be emailed to HarwoodGrants@dol.gov or directed to Heather Wanderski, Program Analyst, or Jim Barnes, Director, Office of Training Programs and Administration, at 847-759-7700 (note this is not a toll-free number). Personnel will not be available after 5:00 p.m., ET, on the application deadline, to answer questions. To obtain further information on the Susan Harwood Training Grant Program, visit the OSHA Web site at: http://www.osha.gov/dte/sharwood/index.html.

Questions regarding Grants.gov should be emailed to Support@grants.gov or directed to the Grants.gov Contact Center, at 1-800-518-4726 (toll free number). The Contact Center is available 24 hours a day, 7 days a week. The Contact Center is closed on Federal holidays.

Authority and Signature

David Michaels, Ph.D., MPH, Assistant Secretary of Labor for Occupational Safety and Health, directed the preparation of this notice. The authority for this notice is Section 21 of the Occupational Safety and Health Act of 1970, (29 U.S.C. 670), Public Law 111-117, and Public Law 112-10, and Secretary of Labor's Order No. 1-2012 (77 FR 3912).

Signed at Washington, DC, on May 12, 2014.
David Michaels,
Assistant Secretary of Labor for Occupational Safety and Health.

[FR Doc. 2014-11214 Filed 5-14-14; 8:45 am]

BILLING CODE 4510-26-P